FARM CREDIT ADMINISTRATION

12 CFR Parts 652

RIN 3052-AC86

Organization; Funding and Fiscal Affairs, Loan Policies and Operations, and Funding Operations; Farmer Mac Investment Eligibility

AGENCY: Farm Credit Administration.

ACTION: Notification of effective date.

SUMMARY: The Farm Credit Administration (FCA or we) issued a final rule adopting amendments to regulations governing the eligibility of non-program investments held by the Federal Agricultural Mortgage Corporation (Farmer Mac) to remove references to, and requirements relating to, credit ratings in compliance with section 939A of the Dodd-Frank Wall Street Reform and Consumer Protection Act. In accordance with law, the effective date of the rule is no earlier than 30 days from the date of publication in the Federal Register during which either or both Houses of Congress are in session.

DATES: The regulation amending 12 CFR part 652 published on November 2, 2018 (83 FR 55093), is effective on February 8, 2019.

FOR FURTHER INFORMATION CONTACT:

Technical information: Joseph Connor, Associate Director for Policy and Analysis, Office of Secondary Market Oversight, (703) 883-4364, TTY (703) 883-4056, connorj@fca.gov.

Legal information: Laura McFarland, Senior Counsel, Office of General Counsel, (703) 883-4020, TTY (703) 883-4056, mcfarlandl@fca.gov.

SUPPLEMENTARY INFORMATION: On November 2, 2018, FCA issued a final rule adopting amendments to regulations governing the eligibility of non-program investments held by Farmer Mac to remove references to, and requirements relating to, credit ratings. The final rule also revised investment concentration limits and removed both the fixed asset class limits and the related table of eligible asset classes. In accordance with 12 U.S.C. 2252(c)(1), the effective date of the rule is no earlier than 30 days from the date of publication in the Federal Register during which either or both Houses of Congress are in session. Based on the records of the sessions of Congress, the effective date of the regulations is February 8, 2019.

Dated: January 31, 2019.
Dale L. Aultman,
Secretary, Farm Credit Administration Board.

[FR Doc. 2019-01072 Filed 2-7-19; 8:45 am]

BILLING CODE 6705-01-P